DEPARTMENT OF TRANSPORTATION

Federal Aviation Administration

Advisory Circular; AC 21.101-1, Advisory Material for the Establishment of the Certification Basis of Changed Aeronautical Products

AGENCY: Federal Aviation Administration, DOT.

ACTION: Notice of issuance of advisory circular.

SUMMARY: This notice announces the issuance of Advisory Circular (AC) No. 21.101-1, Advisory Material for the Establishment of the Certification Basis of Changed Aeronautical Products. The AC provides information and guidance concerning an acceptable method, but not the only method, by which an applicant establishes the certification basis for changed 14 CFR part 25 aeronautical products, including identifying the conditions under which it will be necessary to apply for a new type certificate. The FAA has issued a final rule, Type Certification Procedures for Changed Products that amends the procedural regulations for the certification of changes to type certification products. These amendments affect changes accomplished through either an amended type certificate or a supplemental type certificate. This AC provides guidance for determining compliance with those amended procedural regulations for the certification of changes to transport category airplanes and restricted category airplanes that have been certified using transport category regulations.

DATES: Advisory Circular No. 21.101-1 was issued on August 3, 2001.

FOR FURTHER INFORMATION CONTACT: Madeleine Miguel, Aerospace Engineer, Certification Procedures Branch, AIR-110, Federal Aviation Administration, 800 Independence Ave., SW, Washington, DC 20591; telephone number: (202) 267-3777. A copy of the final AC may be obtained by accessing the FAA's web page at: http://www.airweb.faa.gov/Regulatory and Guidance Library/rgAdvisoryCircular.nsf/MainFrame?OpenFrameset.

SUPPLEMENTARY INFORMATION:

Background or Discussion

Interested parties were given the opportunity to review and comment on the draft AC during the proposal and development phases. Notice was published in the Federal Register (65 FR 51052), August 22, 2000, to announce the availability of, and request comments to, the proposed AC. All comments were reviewed and appropriate comments are incorporated in the AC.

This advisory circular provides guidance by which an applicant establishes the certification basis for changed 14 CFR part 25 aeronautical products, including identifying the conditions under which it will be necessary to apply for a new type certificate. The FAA has issued a final rule, Type Certification Procedures for Changed Products that amends the procedural regulations for the certification of changes to type certification products. These amendments affect changes accomplished through either an amended type certificate or a supplemental type certificate.

This AC provides for determining compliance with those amended procedural regulations for the certification of changes to transport category airplanes and restricted category airplanes that have been certified using transport category regulations.

Issued in Washington, DC, on August 8, 2001.
David W. Hempe,
Acting Manager, Aircraft Engineering Division.

[FR Doc. 01-20431 Filed 8-13-01; 8:45 am]

BILLING CODE 4910-13-M